DEPARTMENT OF HEALTH AND HUMAN SERVICES

Health Resources and Services Administration

Meeting of the Advisory Committee on Interdisciplinary, Community-Based Linkages

AGENCY: Health Resources and Services Administration (HRSA), Department of Health and Human Services.

ACTION: Notice.

SUMMARY: In accordance with the Federal Advisory Committee Act, this notice announces that the Advisory Committee on Interdisciplinary, Community-Based Linkages (ACICBL) will hold public meetings for the 2023 calendar year (CY). Information about ACICBL, agendas, and materials for these meetings can be found on the ACICBL website at https://www.hrsa.gov/advisory-committees/interdisciplinary-community-linkages.

DATES: ACICBL meetings will be held on:

• January 19, 2023, 10:00 a.m.-5:00 p.m. Eastern Time (ET) and January 20, 2023, 10:00 a.m.-4:00 p.m. ET;

• April 17, 2023, 10:00 a.m.-5:00 p.m. ET; and

• August 3, 2023, 10:00 a.m.-5:00 p.m. ET.

ADDRESSES: Meetings will be held virtually and by teleconference; no in-person meetings will be conducted in 2023. For updates on how the meetings will be held, visit the ACICBL website 30 business days before the date of the meeting, where instructions for joining meetings will be posted. For meeting information updates, go to the ACICBL website meeting page at https://www.hrsa.gov/advisory-committees/interdisciplinary-community-linkages/meetings.

FOR FURTHER INFORMATION CONTACT: Shane Rogers, Designated Federal Official, Division of Medicine and Dentistry, Bureau of Health Workforce, HRSA, 5600 Fishers Lane, Room 15N142, Rockville, Maryland 20857; 301-443-5260; or SRogers@hrsa.gov. SUPPLEMENTARY INFORMATION: ACICBL provides advice and recommendations to the Secretary of Health and Human Services on policy, program development, and other matters of significance concerning the activities under sections 750-760, Title VII, Part D of the Public Health Service Act. ACICBL submits an annual report to the Secretary of Health and Human Services and to Congress describing its activities, including findings and recommendations made by the ACICBL concerning the activities under sections 750-760 of the Public Health Service Act and is responsible for developing performance measures, guidelines for longitudinal evaluations, and recommending appropriation levels for programs under Part D.

Since priorities dictate meeting times, be advised that start times, end times, and agenda items are subject to change. For CY 2023 meetings, agenda items may include, but are not limited to, policy and program development and other significant matters related to activities authorized under Part D of the Public Health Service Act, positioning the public health system to anticipate future needs, reversing the negative trend in health care recruitment and retention, and identifying ways for incentivizing for health equity. Refer to the ACICBL website listed above for all current and updated information concerning the CY 2023 ACICBL meetings, including agendas and meeting materials that will be posted 30 calendar days before the meeting.

Members of the public will have the opportunity to provide comments. Public participants may submit written statements in advance of the scheduled meeting(s). Oral comments will be honored in the order they are requested and may be limited as time allows. Requests to submit a written statement or make oral comments to the ACICBL should be sent to Shane Rogers using the contact information above at least 5 business days before the meeting date(s). Individuals who need special assistance or another reasonable accommodation should notify Shane Rogers using the contact information listed above at least 10 business days before the meeting(s) they wish to attend.

Maria G. Button,
Director, Executive Secretariat.

[FR Doc. 2022-27542 Filed 12-19-22; 8:45 am]

BILLING CODE 4165-15-P